DEPARTMENT OF HEALTH AND HUMAN SERVICES

National Institutes of Health

Moving Into the Future—New Dimensions and Strategies for Women's Health Research for the National Institutes of Health; Notice

Notice is hereby given that the Office of Research on Women's Health (ORWH), Office of the Director, National Institutes of Health, Department of Health and Human Services, in collaboration with the Emory University School of Medicine will convene a public hearing and scientific workshop February 16-17, 2010, at Emory University School of Medicine, James B. Williams Medical Education Building, Atlanta, Georgia.

Purpose of the Meeting

With rapid advances in science and wider global understanding of women's health and sex/gender contributions to well-being and disease, the purpose of the meeting is to ensure that NIH continues to support cutting edge women's health research that is based upon the most advanced techniques and methodologies. The meeting format is designed to promote an interactive discussion involving leading scientists, advocacy groups, public policy experts, health care providers, and the general public. With a focus upon women's cardiovascular health, the meeting at Emory University School of Medicine is convened to assist the ORWH and the NIH to move into the next decade of women's health research.

As science and technology advance and fields such as computational biology demonstrate the power of interdisciplinary research, it remains critical for sex and gender factors to be integrated into broad experimental methodologies and scientific approaches across the lifespan. Biomedical and behavioral research are also necessary to understand how cultural, ethnic, and racial differences influence the causes, diagnosis, progression, treatment, and outcome of disease among different populations, including women of diverse geographic locations and socioeconomic backgrounds. Furthermore, health differences among diverse populations of women remain a critical area in need of continued focus and attention.

The ORWH challenges all meeting attendees to assist the NIH in defining the women's health research agenda of the future by thinking beyond traditional women's health issues. With a special focus upon women's cardiovascular health, ORWH and NIH ask meeting participants to consider creative strategies that need to be employed to identify areas of research that are best poised for advancement, identify innovative ways in which persistent issues of health and disease can be addressed, and explore new horizons of scientific concepts and investigative approaches. Attention also needs to be paid to new areas of science application, new technologies, and continuing basic science investigations. Clinical questions that are not currently the focus of research priorities need to be considered to ensure that women's health research is optimally served and that the ORWH can continue to provide leadership for the benefit of women's health, nationally and internationally.

Meeting Format

The meeting will consist of public testimony, scientific panels and seven concurrent scientific working groups. Specifically, on February 16, individuals representing a full spectrum of organizations interested in biomedical and behavioral research on women's health issues will have an opportunity to provide public testimony from 10:30 a.m.-12 p.m. The seven concurrent scientific working groups meeting on February 16 in afternoon sessions will focus on a range of women's cardiovascular health issues, including the following: pregnancy and cardiovascular disease research and ethical considerations; cardiovascular disease in elderly and frail elderly women—optimal management and research; microvascular disease, biomechanics, and application of new technologies to cardiovascular research; stem cells, progenitor cells, and the vista of cardiovascular regenerative medicine; unmet needs in diagnostic testing for women with cardiovascular disease; issues of cardiovascular prevention across the lifespan with an emphasis on gender and underserved populations; and women's careers in the biomedical sciences. On February 17, the morning session will be devoted to reports by the working group co-chairs regarding the recommendations emerging from working group deliberations on the previous day. The meeting will adjourn at 12:15 p.m. on February 17.

Public Testimony

ORWH invites individuals with an interest in research related to women's health to provide written and/or oral testimony on these topics and/or on issues related to the sustained advancement of women in various biomedical careers. Due to time constraints, only one representative from an organization or professional specialty group may submit oral testimony. Individuals not representing an organized entity but a personal point of view are similarly invited to present written and/or oral testimony. A letter of intent to present oral testimony is necessary and should be sent electronically to http://www.orwhmeetings.com/movingintothefuture/Emory or by mail to Ms. Jory Barone, Educational Services, Inc., 4350 East West Highway, Suite 1100, Bethesda, MD 20814, no later than midnight February 1, 2010. The date of receipt of the communication will establish the order of those selected to give oral testimony at the February meeting.

Those wishing to present oral testimony are also asked to submit a written form of their testimony that is limited to a maximum of 10 pages, double spaced, 12-point font, and should include a brief description of the organization. Electronic submission to the above Web site is preferred; however, for those who do not have access to electronic means, written testimony, bound by the restrictions previously noted and postmarked no later than February 1, 2010, can be mailed to Ms. Jory Barone at the above address. All written presentations must meet the established page limitations. Submissions exceeding this limit will not be accepted and will be returned. Oral testimony of this material at the meeting will be limited to no more than 5-6 minutes in length.

Because of time constraints for oral testimony, testifiers may not be able to present the complete information as it is contained in their written form submitted for inclusion in the public record for the meeting. Therefore, testifiers are requested to summarize the major points of emphasis from the written testimony not to exceed 6 minutes of oral testimony. Those individuals and/or organizations who have indicated that they will present oral testimony at the meeting in Atlanta, will be notified prior to the meeting regarding the approximate time for their oral presentation.

Individuals and organizations wishing to provide written statements only should send a copy of their statements, electronically or by mail, to the above Web site or address by February 1, 2010. Written testimony received by that date will be made available at the February 16-17 meeting.

Logistics questions related to the meeting should be addressed to Ms. Jory Barone, joryb@esi-dc.com at ESI, while program-specific questions should be addressed to Dr. Nanette K. Wenger at the Emory University School of Medicine, Atlanta, 404-616-4420, nwenger@emory.edu.

The resulting report to the ORWH and the NIH will ensure that women's health research in the coming decade continues to support a vigorous research agenda incorporating the latest advances in technology and cutting edge science in support of women's cardiovascular health.

Dated: January 8, 2010.
Francis S. Collins,
Director, National Institutes of Health.

[FR Doc. 2010-665 Filed 1-14-10; 8:45 am]

BILLING CODE 4140-01-P